DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Benton County, Arkansas, and Incorporated Areas
Docket No.: FEMA-B-1174
Blossom Way Creek | At the Osage/Turtle Creek confluence | +1204 | City of Rogers.
| Approximately 0.4 mile upstream of 1st Street | +1346
Brush Creek | Approximately 1,530 feet upstream of the Little Sugar Creek confluence | +1095 | City of Little Flock, City of Rogers, Unincorporated Areas of Benton County.
| Approximately 1,600 feet upstream of State Highway 94 North | +1198
Brush Creek Tributary | At the Brush Creek confluence | +1114 | City of Little Flock.
| Approximately 0.37 mile upstream of the Brush Creek confluence | +1131
Cross Creek | Approximately 1,875 feet downstream of Willow Ridge Way | +1249 | City of Rogers.
| At the upstream side of Mills Lane | +1313
Cross Creek Tributary 1 | At the Cross Creek confluence | +1267 | City of Rogers.
| Approximately 1,625 feet upstream of West Drive | +1307
Cross Creek Tributary 2 | At the Cross Creek Tributary 1 confluence | +1267 | City of Rogers.
| Approximately 150 feet upstream of West Drive | +1310
East Flint Creek | At the Flint Creek confluence | +1201 | Town of Springtown, Unincorporated Areas of Benton County.
| Approximately 1,830 feet upstream of Aubrey Long Road | +1211
East Tributary of Blossom Way Creek | At the Blossom Way Creek confluence | +1280 | City of Rogers.
| Approximately 0.41 mile upstream of the Blossom Way Creek confluence | +1303
Flint Creek | Approximately 0.45 mile downstream of the North Flint Creek and East Flint Creek confluence | +1193 | Town of Springtown, Unincorporated Areas of Benton County.
| At the North Flint Creek and East Flint Creek confluence | +1201
Little Osage Creek (downstream reach) | Approximately 0.71 mile downstream of Southwest Regional Airport Boulevard | +1163 | City of Bentonville, Unincorporated Areas of Benton County.
| At the Little Osage Creek Tributary 2 confluence | +1182
Little Osage Creek (upstream reach) | Approximately 390 feet downstream of Brookside Road | +1219 | City of Bentonville, City of Centerton.
| Approximately 600 feet upstream of the upstream crossing of West Fish Hatchery Road | +1258
Little Osage Creek Tributary 2 | Approximately 210 feet downstream of Southwest Opal Road | +1182 | City of Bentonville, Unincorporated Areas of Benton County.
| Approximately 0.5 mile downstream of Southwest I Street | +1268
Little Osage Creek Tributary 2.1 | At the Little Osage Creek Tributary 2 confluence | +1205 | City of Bentonville, City of Centerton, Unincorporated Areas of Benton County.
| Approximately 1,510 feet upstream of Greenhouse Road | +1244
Little Osage Creek Tributary 2.1.1 | At the Little Osage Creek Tributary 2.1 confluence | +1228 | City of Centerton.
| Approximately 0.68 mile upstream of the Little Osage Creek Tributary 2.1 confluence | +1257
Little Osage Creek Tributary 2.1.2 | At the Little Osage Creek Tributary 2.1 confluence | +1237 | City of Centerton, Unincorporated Areas of Benton County.
| Approximately 0.52 mile upstream of the Little Osage Creek Tributary 2.1 confluence | +1254
North Flint Creek | At the Flint Creek confluence | +1201 | Town of Springtown, Unincorporated Areas of Benton County.
| Approximately 0.55 mile upstream of the Flint Creek confluence | +1212
Osage Tributary 1 | At the Osage/Turtle Creek confluence | +1194 | City of Bentonville, City of Rogers.
| At the downstream side of Riviera Road | +1257
Osage Tributary 2 | At the Osage Tributary 1 confluence | +1256 | City of Bentonville, City of Rogers.
| Approximately 1,450 feet upstream of I-540 | +1283
Osage Tributary 3 | At the Osage Tributary 1 confluence | +1269 | City of Rogers.
| Approximately 1,550 feet upstream of I-540 | +1284
Osage Tributary 4 | At the Osage/Turtle Creek confluence | +1189 | City of Rogers, Unincorporated Areas of Benton County.
| Approximately 1,800 feet upstream of South Rainbow Road | +1270
Osage/Turtle Creek | Approximately 0.47 mile downstream of Southgate Road | +1152 | City of Cave Springs, City of Rogers, Unincorporated Areas of Benton County.
| Approximately 700 feet upstream of 5th Street | +1346
Superior Tributary to Osage/Turtle Creek | At the Osage/Turtle Creek confluence | +1288 | City of Rogers.
| Approximately 50 feet downstream of Dixieland Road | +1309
Tributary 1 to Blossom Way Creek | At the Blossom Way Creek confluence | +1288 | City of Rogers.
| At the downstream side of South 8th Street | +1331
Tributary 2 to Blossom Way Creek | At the Tributary 1 to Blossom Way Creek confluence | +1303 | City of Rogers.
| Approximately 750 feet upstream of South 1st Street | +1333
Turtle Creek Tributary | At the Osage/Turtle Creek confluence | +1276 | City of Little Flock, City of Rogers.
| Approximately 1,580 feet upstream of 2nd Street | +1352
Turtle Creek Tributary 1A | At the Turtle Creek Tributary confluence | +1324 | City of Rogers.
| Approximately 1,050 feet upstream of West Easy Street | +1355
Unnamed Tributary to Puppy Creek | Approximately 370 feet upstream of West Monroe Avenue | +1273 | City of Lowell.
| Approximately 300 feet upstream of Links Drive | +1285
West Tributary to Blossom Way Creek | At the Blossom Way Creek confluence | +1276 | City of Rogers.
| Approximately 0.49 mile upstream of the Blossom Way Creek confluence | +1303
* National Geodetic Vertical Datum.
+ North American Vertical Datum.
# Depth in feet above ground.
‸ Mean Sea Level, rounded to the nearest 0.1 meter.
ADDRESSES
City of Bentonville
Maps are available for inspection at City Hall, 117 West Central Avenue, Bentonville, AR 72712.
City of Cave Springs
Maps are available for inspection at City Hall, 134 North Main Street, Cave Springs, AR 72718.
City of Centerton
Maps are available for inspection at City Hall, 290 Main Street, Centerton, AR 72719.
City of Little Flock
Maps are available for inspection at City Hall, 1500 Little Flock Drive, Rogers, AR 72756.
City of Lowell
Maps are available for inspection at City Hall, 216 North Lincoln Street, Lowell, AR 72745.
City of Rogers
Maps are available for inspection at City Hall, 301 West Chestnut Street, Rogers, AR 72756.
Town of Springtown
Maps are available for inspection at the Town Hall, 12055 Wasson Road, Springtown, AR 72734.
Unincorporated Areas of Benton County
Maps are available for inspection at the Benton County Administration Building, 215 East Central Avenue, Bentonville, AR 72712.
Putnam County, Indiana, and Incorporated Areas
Docket No.: FEMA-B-1171
Big Walnut Creek | Approximately 845 feet downstream of Oakalla Covered Bridge | +656 | Unincorporated Areas of Putnam County.
| Approximately 845 feet upstream of Houck Road (North County Road 25 East) | +692
* National Geodetic Vertical Datum.
+ North American Vertical Datum.
# Depth in feet above ground.
‸ Mean Sea Level, rounded to the nearest 0.1 meter.
ADDRESSES
Unincorporated Areas of Putnam County
Maps are available for inspection at the Putnam County Planning and Zoning Department, Annex Building, 209 West Liberty Street, Room 3, Greencastle, IN 46135.
Clark County, Kentucky, and Incorporated Areas
Docket No.: FEMA-B-1171
Boone Creek (backwater effects from Kentucky River) | From the Kentucky River confluence to approximately 1.2 miles upstream of the Kentucky River confluence | +590 | Unincorporated Areas of Clark County.
Bull Run (backwater effects from Kentucky River) | From the Kentucky River confluence to approximately 0.8 mile upstream of the Kentucky River confluence | +603 | Unincorporated Areas of Clark County.
Cotton Creek (backwater effects from Kentucky River) | From the Upper Howard Creek confluence to approximately 0.6 mile upstream of the Upper Howard Creek confluence | +602 | Unincorporated Areas of Clark County.
Dumford Hollow (backwater effects from Kentucky River) | From the Kentucky River Tributary 1 confluence to approximately 1,352 feet upstream of the Kentucky River Tributary 1 confluence | +604 | Unincorporated Areas of Clark County.
Fourmile Creek (backwater effects from Kentucky River) | From the Kentucky River confluence to approximately 1.4 miles upstream of the Kentucky River confluence | +597 | Unincorporated Areas of Clark County.
Indian Creek (backwater effects from Kentucky River) | From the Kentucky River confluence to approximately 0.5 mile upstream of the Kentucky River confluence | +600 | Unincorporated Areas of Clark County.
Jouett Creek (backwater effects from Kentucky River) | From the Kentucky River confluence to approximately 0.5 mile upstream of the Kentucky River confluence | +591 | Unincorporated Areas of Clark County.
Kentucky River | At the Boone Creek confluence | +590 | Unincorporated Areas of Clark County.
| At the Red River confluence | +604
Kentucky River Tributary 1 (backwater effects from Kentucky River) | From the Kentucky River confluence to approximately 0.5 mile upstream of the Kentucky River confluence | +604 | Unincorporated Areas of Clark County.
Lower Howard Creek | Approximately 3.4 miles upstream of Reservoir Lane | +852 | City of Winchester, Unincorporated Areas of Clark County.
| Approximately 273 feet upstream of Colby Road | +961
Lower Howard Creek (backwater effects from Kentucky River) | From the Kentucky River confluence to approximately 1 mile upstream of the Kentucky River confluence | +592 | Unincorporated Areas of Clark County.
Lower Howard Creek Tributary H7 (backwater effects from Lower Howard Creek) | From the Lower Howard Creek confluence to approximately 712 feet upstream of the Lower Howard Creek confluence | +891 | Unincorporated Areas of Clark County.
Red River (overflow effects from Kentucky River) | At the Kentucky River confluence | +604 | Unincorporated Areas of Clark County.
| Approximately 1.2 miles upstream of Irving Road | +605
Strodes Creek | Approximately 317 feet upstream of the Hancock Creek confluence | +869 | City of Winchester, Unincorporated Areas of Clark County.
| Approximately 0.9 mile upstream of Pioneer Drive | +952
Strodes Creek Tributary S1 | From the Strodes Creek confluence to approximately 1,554 feet upstream of the Strodes Creek confluence | +928 | City of Winchester, Unincorporated Areas of Clark County.
Strodes Creek Tributary S2 (backwater effects from Strodes Creek) | From the Strodes Creek Tributary S1 confluence to approximately 540 feet upstream of the Strodes Creek Tributary S1 confluence | +928 | City of Winchester, Unincorporated Areas of Clark County.
Strodes Creek Tributary S5 (backwater effects from Strodes Creek) | From the Strodes Creek confluence to approximately 1,385 feet upstream of the Strodes Creek confluence | +926 | City of Winchester, Unincorporated Areas of Clark County.
Twomile Creek (backwater effects from Kentucky River) | From the Kentucky River confluence to approximately 0.8 mile upstream of the Kentucky River confluence | +596 | Unincorporated Areas of Clark County.
Upper Howard Creek (backwater effects from Kentucky River) | From the Kentucky River confluence to approximately 1.9 miles upstream of the Kentucky River confluence | +602 | Unincorporated Areas of Clark County.
Upper Howard Creek Tributary 3 (backwater effects from Kentucky River) | From the Upper Howard Creek confluence to approximately 1,559 feet upstream of the Upper Howard Creek confluence | +602 | Unincorporated Areas of Clark County.
* National Geodetic Vertical Datum.
+ North American Vertical Datum.
# Depth in feet above ground.
‸ Mean Sea Level, rounded to the nearest 0.1 meter.
ADDRESSES
City of Winchester
Maps are available for inspection at City Hall, 32 Wall Street, Winchester, KY 40392.
Unincorporated Areas of Clark County
Maps are available for inspection at the Clark County Courthouse, 34 South Main Street, Winchester, KY 40391.
Menifee County, Kentucky, and Incorporated Areas
Docket No.: FEMA-B-1021
Licking River (Cave Run Lake) | At the Buck Creek confluence | +765 | Unincorporated Areas of Menifee County.
| At the North Fork Licking River confluence | +765
* National Geodetic Vertical Datum.
+ North American Vertical Datum.
# Depth in feet above ground.
‸ Mean Sea Level, rounded to the nearest 0.1 meter.
ADDRESSES
Unincorporated Areas of Menifee County
Maps are available for inspection at the Menifee County Courthouse, 12 Main Street, Frenchburg, KY 40322.
Scott County, Missouri, and Incorporated Areas
Docket No.: FEMA-B-1152
Headwater Diversion Channel (backwater effects from Mississippi River) | From the Cape Girardeau County boundary to approximately 1.33 miles upstream of the Cape Girardeau County boundary | +350 | Unincorporated Areas of Scott County.
Mississippi River | At the Mississippi County boundary | +335 | Unincorporated Areas of Scott County.
| At the Alexander County boundary | +351
Ramsey Creek Diversion Channel (backwater effects from Mississippi River) | From the confluence with Headwater Diversion Channel to approximately 3.6 miles upstream of the confluence with Headwater Diversion Channel | +350 | City of Scott City, Unincorporated Areas of Scott County.
* National Geodetic Vertical Datum.
+ North American Vertical Datum.
# Depth in feet above ground.
‸ Mean Sea Level, rounded to the nearest 0.1 meter.
ADDRESSES
City of Scott City
Maps are available for inspection at 215 Chester Avenue, Scott City, MO 63780.
Unincorporated Areas of Scott County
Maps are available for inspection at 131 South Winchester Street, Benton, MO 63736.
Sanders County, Montana, and Incorporated Areas
Docket No.: FEMA-B-1185
Clark Fork River | Approximately 0.9 mile downstream of Montana Highway 200 | +2480 | Unincorporated Areas of Sanders County.
| Approximately 0.5 mile upstream of Montana Highway 200 | +2495
Flathead River | Approximately 0.4 mile upstream of the Clark Fork River confluence | +2492 | Unincorporated Areas of Sanders County.
| Approximately 3.8 miles upstream of the Clark Fork River confluence | +2494
Hot Springs Creek | Approximately 0.5 mile downstream of Camas Road | +2792 | Town of Hot Springs.
| Approximately 0.5 mile upstream of Hot Springs Creek Road | +2990
* National Geodetic Vertical Datum.
+ North American Vertical Datum.
# Depth in feet above ground.
‸ Mean Sea Level, rounded to the nearest 0.1 meter.
ADDRESSES
Town of Hot Springs
Maps are available for inspection at the Town Hall, 109 Main Street, Hot Springs, MT 59845.
Unincorporated Areas of Sanders County
Maps are available for inspection at the Sanders County Courthouse, 1111 Main Street, Thompson Falls, MT 59873.
Lebanon County, Pennsylvania (All Jurisdictions)
Docket No.: FEMA-B-1185
Killinger Creek | Approximately 0.59 mile downstream of Brandt Road | +413 | Township of North Londonderry.
| Approximately 0.52 mile downstream of Brandt Road | +415
Little Swatara Creek | At the Swatara Creek confluence | +408 | Borough of Jonestown.
| Approximately 1,000 feet upstream of South Lancaster Street | +408
Quittapahilla Creek | Approximately 750 feet downstream of U.S. Route 422 | +393 | Borough of Cleona, Township of Annville, Township of North Annville, Township of South Lebanon.
| Approximately 700 feet upstream of U.S. Route 422 | +473
Swatara Creek | Approximately 0.8 mile upstream of Ono Road | +397 | Borough of Jonestown, Township of East Hanover, Township of North Annville, Township of Union.
| Approximately 0.24 mile upstream of I-81 | +448
Tributary B | Approximately 85 feet downstream of West Main Avenue | +458 | Borough of Myerstown.
| Approximately 105 feet downstream of U.S. Route 422 | +468
* National Geodetic Vertical Datum.
+ North American Vertical Datum.
# Depth in feet above ground.
‸ Mean Sea Level, rounded to the nearest 0.1 meter.
ADDRESSES
Borough of Cleona
Maps are available for inspection at the Borough Hall, 140 West Walnut Street, Cleona, PA 17042.
Borough of Jonestown
Maps are available for inspection at the Borough Building, 295 South Mill Street, Jonestown, PA 17038.
Borough of Myerstown
Maps are available for inspection at the Municipal Center, 101 East Washington Avenue, Myerstown, PA 17067.
Township of Annville
Maps are available for inspection at the Township Hall, 36 North Lancaster Street, Annville, PA 17003.
Township of East Hanover
Maps are available for inspection at the East Hanover Township Building, 1117 School House Road, Annville PA 17003.
Township of North Annville
Maps are available for inspection at the North Anville Township Building, 1020 North Route 934, Annville, PA 17003.
Township of North Londonderry
Maps are available for inspection at the North Londonderry Township Building, 655 East Ridge Road, Palmyra, PA 17078.
Township of South Lebanon
Maps are available for inspection at the South Lebanon Township Building, 1800 South 5th Avenue, Lebanon, PA 17042.
Township of Union
Maps are available for inspection at the Union Township Building, 3111 State Route 72, Jonestown, PA 17038.
Navarro County, Texas, and Incorporated Areas
Docket No.: FEMA-B-1145
Harris Branch of Richland Creek | Approximately 1,300 feet upstream of Southwest County Road 1070 | +406 | City of Corsicana, Unincorporated Areas of Navarro County.
| Approximately 1,600 feet downstream of West Cowhead Road | +435
Harris Branch of Richland Creek Tributary 1 | Just upstream of the confluence with Harris Branch of Richland Creek | +417 | City of Corsicana.
| Approximately 900 feet upstream of the confluence with Harris Branch of Richland Creek | +422
Harris Branch of Richland Creek Tributary 2 | Just upstream of the confluence with Harris Branch of Richland Creek | +423 | City of Corsicana.
| Approximately 1,150 feet upstream of the confluence with Harris Branch of Richland Creek | +425
Harris Branch of Richland Creek Tributary 3 | Just upstream of the confluence with Harris Branch of Richland Creek | +423 | City of Corsicana.
| Approximately 0.28 mile upstream of the confluence with Harris Branch of Richland Creek | +430
Harris Branch of Richland Creek Tributary 5 | Just upstream of the confluence with Harris Branch of Richland Creek | +424 | City of Corsicana.
| Approximately 0.44 mile upstream of the confluence with Harris Branch of Richland Creek | +432
Little Harris Branch | Just upstream of the confluence with Harris Branch of Richland Creek | +406 | City of Corsicana, Unincorporated Areas of Navarro County.
| Approximately 0.58 mile upstream of the confluence with Harris Branch of Richland Creek | +424
Little Mesquite Branch | Approximately 1,500 feet downstream of the confluence with Mesquite Branch | +384 | City of Corsicana.
| Approximately 750 feet downstream of I-45 | +403
Post Oak Creek | Approximately 750 feet upstream of County Road 10 | +347 | Unincorporated Areas of Navarro County.
| Approximately 900 feet upstream of the confluence with Post Oak Creek Tributary 7 | +416
Post Oak Creek Tributary 5 | Just upstream of Burlington Northern Santa Fe Railroad | +416 | City of Corsicana.
| Just upstream of Forrest Lane | +427
Post Oak Creek Tributary 7 | Approximately 250 feet downstream of Bowie Circle | +414 | City of Corsicana, Unincorporated Areas of Navarro County.
| Approximately 775 feet upstream of Ryan Drive | +440
Town Branch | Approximately 550 feet upstream of 24th Street | +454 | City of Corsicana.
| Approximately 900 feet upstream of 24th Street | +457
Tributary of Little Mesquite Branch | Just upstream of the confluence with Little Mesquite Branch | +330 | City of Corsicana.
| Approximately 825 feet upstream of U.S. Route 287 | +409
* National Geodetic Vertical Datum.
+ North American Vertical Datum.
# Depth in feet above ground.
‸ Mean Sea Level, rounded to the nearest 0.1 meter.
ADDRESSES
City of Corsicana
Maps are available for inspection at City Hall, 200 North 12th Street, Corsicana, TX 75110.
Unincorporated Areas of Navarro County
Maps are available for inspection at the Navarro County Courthouse, 300 West 3rd Avenue, Corsicana, TX 75110.
Preston County, West Virginia, and Incorporated Areas
Docket No.: FEMA-B-1166
Back Run | At the confluence with Deckers Creek | +1698 | Unincorporated Areas of Preston County.
| Approximately 1,670 feet upstream of the confluence with Deckers Creek | +1702
Barnes Run | At the confluence with Cherry Run | +1702 | Unincorporated Areas of Preston County.
| Approximately 450 feet upstream of State Route 26 | +2075
Barnes Run Tributary 2 | At the confluence with Barnes Run | +1750 | Unincorporated Areas of Preston County.
| Approximately 0.9 mile upstream of the confluence with Barnes Run | +1976
Big Sandy Creek | Approximately 310 feet downstream of the confluence of Glade Run | +1507 | Town of Brandonville, Unincorporated Areas of Preston County.
| Approximately 300 feet upstream of County Highway 4/2 | +1550
Big Sandy Creek Tributary 1 | At the confluence with Big Sandy Creek | +1530 | Unincorporated Areas of Preston County.
| Approximately 0.9 mile upstream of County Highway 8 | +1791
Bull Run | Approximately 580 feet upstream of the confluence with the Cheat River | +923 | Unincorporated Areas of Preston County.
| Approximately 420 feet upstream of County Highway 21 | +1419
Bull Run Tributary 1 | At the confluence with Bull Run | +1325 | Unincorporated Areas of Preston County.
| Approximately 1.4 miles upstream of County Highway 21/2 | +1743
Cheat River | Approximately 1.9 miles downstream of the Albright Power Plant Dam | +1198 | Town of Rowlesburg, Unincorporated Areas of Preston County.
| At the Tucker County boundary | +1483
Cherry Run | Approximately 250 feet downstream of the confluence of Barnes Run | +1699 | Unincorporated Areas of Preston County.
| Approximately 1.8 miles upstream of County Highway 5/2 | +2272
Cherry Run Tributary 1 | At the confluence with Cherry Run | +1969 | Unincorporated Areas of Preston County.
| Approximately 1,560 feet downstream of County Highway 5 | +2069
Cherry Run Tributary 2 | At the confluence with Cherry Run | +1972 | Unincorporated Areas of Preston County.
| Approximately 0.8 mile upstream of the confluence with Cherry Run Tributary 2A | +2099
Cherry Run Tributary 2A | At the confluence with Cherry Run Tributary 2 | +2045 | Unincorporated Areas of Preston County.
| Approximately 0.5 mile upstream of the confluence with Cherry Run Tributary 2 | +2091
Cherry Run Tributary 3 | At the confluence with Cherry Run | +2017 | Unincorporated Areas of Preston County.
| Approximately 1.1 miles upstream of the confluence with Cherry Run | +2236
Deckers Creek | At the downstream Monongalia County boundary | +1488 | Town of Masontown, Town of Rowlesburg, Unincorporated Areas of Preston County.
| At the upstream Monongalia County boundary | +1861
Deckers Creek Tributary 1 | At the confluence with Deckers Creek | +1709 | Unincorporated Areas of Preston County.
| Approximately 300 feet upstream of Zinn Chapel Road | +1741
Dillan Creek | At the confluence with Deckers Creek | +1701 | Unincorporated Areas of Preston County.
| Approximately 0.8 mile upstream of Dillan Creek Road | +1749
Dillan Creek Tributary 1 | At the confluence with Dillan Creek | +1701 | Unincorporated Areas of Preston County.
| Approximately 0.9 mile upstream of County Highway 7/4 | +1831
Dillan Creek Tributary 2 | At the confluence with Dillan Creek | +1701 | Unincorporated Areas of Preston County.
| Approximately 1.9 miles upstream of the confluence with Dillan Creek | +1919
Glade Run | At the confluence with Big Sandy Creek | +1508 | Unincorporated Areas of Preston County.
| Approximately 1.7 miles upstream of County Highway 6 | +1814
Glade Run East | At the confluence with Big Sandy Creek | +1531 | Unincorporated Areas of Preston County.
| Approximately 960 feet upstream of County Highway 26/63 | +2202
Glade Run Tributary 1 | At the confluence with Glade Run | +1655 | Unincorporated Areas of Preston County.
| Approximately 0.5 mile upstream of County Highway 6/1 | +1716
Glade Run Tributary 2 | At the confluence with Glade Run | +1667 | Unincorporated Areas of Preston County.
| Approximately 0.6 mile upstream of County Highway 6/1 | +1834
Hog Run | At the confluence with Cherry Run | +1838 | Unincorporated Areas of Preston County.
| Approximately 0.8 mile upstream of the confluence with Hog Run Tributary 3 | +2062
Hog Run Tributary 1 | At the confluence with Hog Run | +2019 | Unincorporated Areas of Preston County.
| Approximately 1,830 feet upstream of State Route 26 | +2077
Hog Run Tributary 2 | At the confluence with Hog Run | +2036 | Unincorporated Areas of Preston County.
| Approximately 1,820 feet upstream of State Route 26 | +2061
Hog Run Tributary 3 | At the confluence with Hog Run | +2040 | Unincorporated Areas of Preston County.
| Approximately 1,190 feet upstream of State Route 26 | +2082
Kanes Creek | At the confluence with Deckers Creek | +1701 | Town of Reedsville, Unincorporated Areas of Preston County.
| Approximately 0.6 mile upstream of County Highway 56 | +1781
Little Sandy Creek | At the confluence with Big Sandy Creek | +1537 | Unincorporated Areas of Preston County.
| Approximately 0.44 mile upstream of County Highway 8 | +1544
Little Wolf Creek | At the confluence with Wolf Creek | +1460 | Unincorporated Areas of Preston County.
| Approximately 300 feet upstream of County Highway 110 | +1596
Maple Run | Approximately 570 feet upstream of the confluence with the Youghiogheny River | +2425 | Unincorporated Areas of Preston County.
| Approximately 0.9 mile upstream of County Highway 116/2 | +2645
Middle Run | At the confluence with Bull Run | +1329 | Unincorporated Areas of Preston County.
| Approximately 1.8 miles upstream of the confluence with Bull Run | +1724
Mill Run | At the confluence with Cherry Run | +1864 | Unincorporated Areas of Preston County.
| Approximately 1.6 miles upstream of the confluence with Mill Run Tributary 2 | +2387
Mill Run Tributary 1 | At the confluence with Mill Run | +1971 | Unincorporated Areas of Preston County.
| Approximately 1.2 miles upstream of the confluence with Mill Run | +2177
Mill Run Tributary 2 | At the confluence with Mill Run | +2054 | Unincorporated Areas of Preston County.
| Approximately 640 feet upstream of County Highway 112 | +2246
Piney Run | At the confluence with Cherry Run | +1843 | Unincorporated Areas of Preston County.
| Approximately 1.2 miles upstream of County Highway 5 | +1869
Saltlick Creek | At the confluence with the Cheat River | +1399 | Town of Rowlesburg, Unincorporated Areas of Preston County.
| Approximately 0.7 mile upstream of F Road | +2000
Spruce Run | At the confluence with Saltlick Creek | +1580 | Unincorporated Areas of Preston County.
| Approximately 2.1 miles upstream of County Highway 86 | +1796
Swamp Run | At the confluence with Dillan Creek | +1701 | Unincorporated Areas of Preston County.
| Approximately 0.5 mile upstream of Herring Road | +1745
Wolf Creek | At the confluence with the Cheat River | +1449 | Unincorporated Areas of Preston County.
| Approximately 0.5 mile upstream of County Highway 110 | +1542
* National Geodetic Vertical Datum.
+ North American Vertical Datum.
# Depth in feet above ground.
‸ Mean Sea Level, rounded to the nearest 0.1 meter.
ADDRESSES
Town of Brandonville
Maps are available for inspection at the Brandonville Town Hall, 37 Poplar Street, Bruceton Mills, WV 26525.
Town of Masontown
Maps are available for inspection at the Water Works Building, 51 North Main Street, Masontown, WV 26542.
Town of Reedsville
Maps are available for inspection at the Town Hall, 207 South Robert Stone Way, Reedsville, WV 26547.
Town of Rowlesburg
Maps are available for inspection at the Community Building, 44 Poplar Street, Rowlesburg, WV 26425.
Unincorporated Areas of Preston County
Maps are available for inspection at the Preston County Office of Emergency Management, 300 Rich Wolfe Drive, Kingwood, WV 26537.

(Catalog of Federal Domestic Assistance No. 97.022, “Flood Insurance.”)

Dated: April 18, 2012.
Sandra K. Knight,
Deputy Associate Administrator for Mitigation, Department of Homeland Security, Federal Emergency Management Agency.

[FR Doc. 2012-10994 Filed 5-7-12; 8:45 am]

BILLING CODE 9110-12-P